ENVIRONMENTAL PROTECTION AGENCY

[Docket ID Number OECA-2005-0003, FRL-7881-8]

Agency Information Collection Activities: Proposed Collection; Comment Request; NESHAP for Miscellaneous Metal Parts and Products, EPA ICR Number 2056.02, OMB Control Number 2060-0486

AGENCY: Environmental Protection Agency (EPA).

ACTION: Notice.

SUMMARY: In compliance with the Paperwork Reduction Act (44 U.S.C. 3501 et seq.), this document announces that EPA is planning to submit the following existing, approved, continuing Information Collection Request (ICR) to the Office of Management and Budget (OMB) for the purpose of renewing the ICR. This ICR is scheduled to expire on August 31, 2005. Before submitting the ICR to OMB for review and approval, EPA is soliciting comments on specific aspects of the information collection described below.

DATES: Comments must be submitted on or before May 9, 2005.

ADDRESSES: Submit your comments, referencing docket ID number OECA-2005-0003, to EPA online using EDOCKET (our preferred method), by email to docket.oeca@epa.gov, or by mail to: EPA Docket Center, Environmental Protection Agency, Enforcement and Compliance Docket and Information Center in the EPA Docket Center (EPA/DC), EPA West, Room B102, 1301 Constitution Avenue, NW., Washington, DC, 1200 Pennsylvania Avenue, NW., Washington, DC 20460.

FOR FURTHER INFORMATION CONTACT: Leonard Lazarus, Office of Compliance, Environmental Protection Agency, 1200 Pennsylvania Avenue, NW., Washington, DC 20460 at (202) 564-6369, facsimile number (202) 564-0050, or via e-mail at lazarus.leonard@epamail.epa.gov.

SUPPLEMENTARY INFORMATION: EPA has established a public docket for this ICR under Docket ID number OECA-2005-0003, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514. An electronic version of the public docket is available through EPA Dockets (EDOCKET) at http://www.epa.gov/edocket. Use EDOCKET to obtain a copy of the draft collection of information, submit or view public comments, access the index listing of the contents of the public docket, and to access those documents in the public docket that are available electronically. When in the system, select “search,” then key in the docket ID number identified above.

Any comments related to this ICR should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected Entities: Entities potentially affected by this action are Miscellaneous Metal Parts and Products Surface Coating Operations.

Title: NESHAP for Miscellaneous Metal Parts and Products (40 CFR part 63, subpart MMMM).

Abstract: The respondents are subject to the recordkeeping and reporting requirements at 40 CFR part 63, subpart A—General Provisions, that apply to all NESHAP sources. These requirements include recordkeeping and reporting for startup, shutdown, malfunctions, and semiannual reporting. Exceptions to the General Provisions for this source category are delineated in the standard and include initial notifications to the Agency for new, reconstructed and existing affected entities, and notifications of compliance status.

The information must be collected in order for the Agency to determine compliance with the emission limitations in the standard. Responses to this collection of information are mandatory under the Clean Air Act. An agency may not conduct or sponsor, and a person is not required to respond to, a collection of information unless the agency displays a currently valid OMB control number. The OMB control numbers for EPA's standards are listed at 40 CFR part 9.

The EPA would like to solicit comments to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses.

Burden Statement: In the previously approved ICR, the estimated number of respondents for this information collection was 1,590 with 180 responses per year. The annual industry recordkeeping and reporting burden for this collection of information was 139,380 hours. On the average, each respondent reported 0.11 times per year and 774 hours were spent preparing each response. The operation and maintenance costs associated with continuous emission monitoring (CEM) equipment in the previous ICR was $3,600, and there were no costs associated with startup/shutdown of the CEM equipment.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 24, 2005.
Michael M. Stahl,
Director, Office of Compliance.

[FR Doc. 05-4471 Filed 3-7-05; 8:45 am]

BILLING CODE 6560-50-P